DEPARTMENT OF LABOR

Employment and Training Administration

[TA-W-64,198; TA-W-64,198A]

Cranston Print Works Company, Webster Division, Webster, MA; Cranston Print Works Company, Corporate Offices, Cranston, RI; Amended Certification Regarding Eligibility To Apply for Worker Adjustment Assistance

In accordance with Section 223 of the Trade Act of 1974, as amended (“Act”), 19 U.S.C. 2273, the Department of Labor issued a Certification of Eligibility to Apply for Worker Adjustment Assistance on February 6, 2009, applicable to workers of Cranston Print Works Company, Webster Division, Webster, Massachusetts. The Department's Notice of determination was published in the Federal Register on March 3, 2009 (74 FR 9282). The workers are engaged in activities related to the production of printed cotton and cotton blend fabrics.

At the request of the company official, the Department reviewed the certification for workers of the subject firm. The company official states that the Cranston, Rhode Island facility operated in conjunction with the Webster, Massachusetts facility and that the worker separations at the Cranston, Rhode Island facility is due to the reduced production of printed cotton and cotton blend fabrics at the Webster, Massachusetts facility.

Based on these findings, the Department is amending this certification to include workers from Cranston Print Works Company, Corporate Offices, Cranston, Rhode Island.

Workers at Cranston Print Works Company, Webster Division, Webster, Massachusetts, were under a certification that expired on August 22, 2008 (TA-W-59,774). Workers at Cranston Print Works Company, Corporate Offices, Cranston, Rhode Island were not covered by the certification. Because the date of the petition is October 9, 2008, the earliest possible impact date of the amended certification applicable to workers of Cranston Print Works Company, Corporate Offices, Cranston, Rhode Island is October 9, 2007.

Workers at Cranston Print Works Company, Corporate Offices, Cranston, Rhode Island, who are separated from employment between March 10, 2009 and June 1, 2012 are eligible to apply for Trade Adjustment Assistance (TAA) under TA-W-73,788. Because workers cannot be covered by two certifications at the same time, the period of the amended certification ends on March 9, 2009.

The amended notice applicable to TA-W-64,198 is hereby issued as follows:

All workers of Cranston Print Works Company, Webster Division, Webster, Massachusetts (TA-W-64,198), who became totally or partially separated from employment on or after August 23, 2008, through February 6, 2011, and all workers of Cranston Print Workers Company, Corporate Offices, Cranston, Rhode Island (TA-W-64,198A), who became totally or partially separated from employment on or after October 9, 2007, through March 9, 2009, are eligible to apply for adjustment assistance under Chapter 2 of Title II of the Trade Act of 1974, as amended, and are also eligible to apply for alternative trade adjustment assistance.

Signed at Washington, DC, this 8th day of July 2010.
Del Min Amy Chen,
Certifying Officer, Division of Trade Adjustment Assistance.

[FR Doc. 2010-17379 Filed 7-15-10; 8:45 am]

BILLING CODE 4510-FN-P